DEPARTMENT OF JUSTICE

Notice of Lodging of Proposed Consent Decree Under the Resource Conservation and Recovery Act

On April 26, 2013, the Department of Justice lodged a proposed consent decree with the United States District Court for the Northern District of Ohio in the lawsuit entitled United States v. Schott Metal Products, Inc. and The Estate of Samuel Schott, Civil Action No. 5:13-cv-00950.

In the Complaint filed in this action the United States alleged that Defendants failed to comply with a 2006 Administrative Order issued by the United States Environmental Protection Agency (“EPA”) to sample and monitor soil and groundwater at the Schott Metal Products, Inc. facility in Akron, Ohio, in violation of Section 3013(a) of the Resource Conservation and Recovery Act (“RCRA”), 42 U.S.C. 6934(a). The proposed consent decree requires Defendants to comply with the 2006 Administrative Order by implementing a “work plan,” and an addendum thereto, recently approved by EPA. The proposed consent decree further requires Defendants to pay a civil penalty of $375,000, for the alleged failure to timely comply with the 2006 Administrative Order.

The publication of this notice opens a period for public comment on the proposed consent decree. Comments should be addressed to the Assistant Attorney General, Environment and Natural Resources Division, and should refer to United States v. Schott Metal Products, Inc. and The Estate of Samuel Schott, D.J. Ref. No. 90-7-1-09982. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ—ENRD, P.O. Box 7611, Washington, DC 20044-7611.

Please enclose a check or money order for $44.25 (with all attachments) or $9.00 (without attachments) (25 cents per page reproduction cost) payable to the United States Treasury.

Maureen Katz,
Assistant Chief Management, Environmental Enforcement Section, Environment and Natural Resources Division.

[FR Doc. 2013-11107 Filed 5-9-13; 8:45 am]

BILLING CODE 4410-15-P